FEDERAL COMMUNICATIONS COMMISSION

FCC To Hold Open Commission Meeting, Thursday, April 7, 2011

March 31, 2011.

The Federal Communications Commission will hold an Open Meeting on the subjects listed below on Thursday, April 7, 2011, which is scheduled to commence at 10:30 a.m. in Room TW-C305, at 445 12th Street, SW., Washington, DC.

Item No. | Bureau | Subject
1 | Wireline Competition | Title: Implementation of Section 224 of the Act (WC Docket No. 07-245); A National Broadband Plan for Our Future (GN Docket No. 09-51).
|  | Summary: The Commission will consider an Order that reforms the Commission's access, rates, and enforcement rules for utility pole attachments, reducing barriers to deployment and availability of broadband and other wireline and wireless services, and promoting competition.
2 | Wireline Competition and Wireless Telecommunications | Title: Acceleration of Broadband Deployment: Expanding the Reach and Reducing the Cost of Broadband Deployment by Improving Policies Regarding Government Rights of Way and Wireless Facilities Siting.
|  | Summary: The Commission will consider a Notice of Inquiry seeking comment on key challenges and best practices in expanding the reach and reducing the cost of broadband deployment, including by improving policies for access to government rights of way and wireless facility siting requirements.
3 | Wireless Telecommunications | Title: Reexamination of Roaming Obligations of Commercial Mobile Radio Service Providers and Other Providers of Mobile Data Services (WT Docket No. 05-265).
|  | Summary: The Commission will consider a Second Report and Order that adopts a rule requiring facilities-based providers of commercial mobile data services to offer data roaming arrangements to other such providers on commercially reasonable terms and conditions, subject to certain limitations.
4 | Public Safety and Homeland Security | Title: Reliability and Continuity of Communications Networks, Including Broadband Technologies; Effects on Broadband Communications Networks of Damage or Failure of Network Equipment or Severe Overload (PS Docket No. 10-92); Independent Panel Reviewing the Impact of Hurricane Katrina on Communications Networks (EB Docket No. 06-119).
|  | Summary: The Commission will consider a Notice of Inquiry seeking comment on existing reliability standards for communications networks, including broadband networks, and ways to further strengthen the reliability and continuity of communications networks to avoid disruptions of service during major emergencies, such as large-scale natural and manmade disasters.
5 | Wireless Telecommunications | Title: Amending Parts 1, 2, 22, 24, 27, 90 and 95 of the Commission's Rules to Improve Wireless Coverage Through the Use of Signal Boosters.
|  | Summary: The Commission will consider a Notice of Proposed Rulemaking that will help to fill gaps in wireless coverage and expand broadband in rural and difficult-to-serve areas, while protecting wireless networks from harm.
6 | Consumer & Governmental Affairs | Title: Structure and Practices of the Video Relay Service Program (CG Docket No. 10-51).
|  | Summary: The Commission will consider a Report and Order that will adopt rules to detect and prevent fraud and abuse in the provision of video relay service (“VRS”). Also, a Further Notice of Proposed Rulemaking Proposes to require all VRS providers to obtain certification from the FCC under new, tighter certification procedures in order to receive compensation from the TRS Fund.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at http://www.fcc.gov/live.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Bulah P. Wheeler,
Deputy Manager.

[FR Doc. 2011-8216 Filed 4-6-11; 8:45 am]

BILLING CODE 6712-01-P